NUCLEAR REGULATORY COMMISSION

[Docket Nos. 50-289 and 50-320; ASLBP No. 20-962-01-LA-BD01]

Exelon Generation Company, LLC; Establishment of Atomic Safety and Licensing Board

Pursuant to delegation by the Commission, see 37 FR 28,710 (Dec. 29, 1972), and the Commission's regulations, see, e.g., 10 CFR 2.104, 2.105, 2.300, 2.309, 2.313, 2.318, 2.321, notice is hereby given that an Atomic Safety and Licensing Board (Board) is being established to preside over the following proceeding:

Exelon Generation Company, LLC

(Three Mile Island Nuclear Station, Units 1 and 2)

This proceeding involves a challenge to an application by Exelon Generation Company, LLC for an amendment to the operating licenses for Three Mile Island Nuclear Station, Units 1 and 2, located in Dauphin County, Pennsylvania. The amendment would revise the site emergency plan and Emergency Action Level scheme for the permanently defueled condition of the units. In response to a notice filed in the Federal Register, see 84 FR 47,542, 47,548 (Sept. 10, 2019), Eric Epstein filed a Petition to Intervene and Hearing Request. See Eric J. Epstein, Chairman of Three Mile Island Alert, Inc.'s Petition to Intervene and Hearing Request (Nov. 12, 2019).¹

¹ In its memorandum referring the Petition to Intervene and Hearing Request to the Atomic Safety and Licensing Board Panel for appropriate action in accordance with 10 CFR 2.346(i), the Office of the Secretary stated:

The first eight pages of the hearing request's Introduction section contain objections to a no significant hazards consideration determination by the NRC staff. As stated at 10 CFR 50.58(b)(6), no petition or other request for review of or hearing on the staff's no significant hazards consideration determination will be entertained by the Commission. Accordingly, this referral memorandum is not to be construed as reflecting a determination that Mr. Epstein is entitled to a review of, or hearing on, the staff's no significant hazards consideration determination.

Memorandum from Annette L. Vietti-Cook to E. Roy Hawkens (Dec. 5, 2019).

The Board is comprised of the following Administrative Judges:

G. Paul Bollwerk, III, Chairman, Atomic Safety and Licensing Board Panel, U.S. Nuclear Regulatory Commission, Washington, DC 20555-0001.

Dr. Sue H. Abreu, Atomic Safety and Licensing Board Panel, U.S. Nuclear Regulatory Commission, Washington, DC 20555-0001.

Dr. Gary S. Arnold, Atomic Safety and Licensing Board Panel, U.S. Nuclear Regulatory Commission, Washington, DC 20555-0001.

All correspondence, documents, and other materials shall be filed in accordance with the NRC E-Filing rule. See 10 CFR 2.302.

Rockville, Maryland; December 9, 2019.
E. Roy Hawkens,
Chief Administrative Judge, Atomic Safety and Licensing Board Panel.

[FR Doc. 2019-26791 Filed 12-11-19; 8:45 am]

BILLING CODE 7590-01-P